DEPARTMENT OF COMMERCE

National Oceanic and Atmospheric Administration

RIN 0648-XC375

New England Fishery Management Council; Public Meeting

AGENCY: National Marine Fisheries Service (NMFS), National Oceanic and Atmospheric Administration (NOAA), Commerce.

ACTION: Notice of a public meeting.

SUMMARY: The New England Fishery Management Council (Council) will hold a one-day meeting to consider actions affecting New England fisheries in the exclusive economic zone (EEZ).

DATES: The meeting will start at 9 a.m. on Thursday, December 20, 2012.

ADDRESSES: The meeting will be held at the Sheraton Colonial Hotel, One Audubon Road, Wakefield, MA 01880; telephone: (781) 245-9300; fax: (781) 245-0842.

Council Address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Thursday, December 20, 2012

Following introductions and any announcements, the Council will make final decisions on Framework Adjustment 48 to the Northeast Multispecies Fishery Management Plan. Specifically it is scheduled to review and select preferred alternatives concerning the following issues:

Acceptable biological catch and annual catch limits for fishing year 2013 and beyond;

Management measures for sector vessels (including measures related to at-sea and dockside monitoring of sector trips);

Sector vessel access to parts of the year-round closed areas; and

Changes to the accountability measures for commercial and recreational vessels, gear requirements for small-mesh bottom trawl vessels fishing on Georges Bank, and several other issues.

The Council also will review proposed monitoring requirements for a sector exemption request designed to facilitate the targeting of redfish. Any other related business that has not been covered under the stated agenda items listed above will be considered before adjournment at the end of the day.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: November 29, 2012.
Tracey L. Thompson,
Acting Deputy Director, Office of Sustainable Fisheries, National Marine Fisheries Service.

[FR Doc. 2012-29242 Filed 12-3-12; 8:45 am]

BILLING CODE 3510-22-P